DEPARTMENT OF HEALTH AND HUMAN SERVICES

Centers for Disease Control and Prevention

Working Group; Meeting

The National Center for Infectious Diseases (NCID), Division of Viral and Rickettsial Diseases (DVRD), Hepatitis Branch of the Centers for Disease Control and Prevention (CDC) announces the following meeting.

Name: Working Group to Review and Update Recommendations for the Prevention and Control of Viral Hepatitis among Incarcerated Persons.

Times and Dates:

7 p.m.—9:15 p.m., March 5, 2001

8:30 a.m.—4:30 p.m., March 6, 2001

8:30 a.m.—2:30 p.m., March 7, 2001

Place: Crown Plaza Ravinia Perimeter, 4355 Ashford-Dunwoody Road, Atlanta, Georgia 30346

Status: Open to the public, limited only by the space available. Registration required. See contact person for more information.

Purpose: The purpose of this working meeting is to review and update recommendations that will serve as a resource to individuals and organizations involved in prevention and control of viral hepatitis in adult and juvenile correctional settings.

Matters to be Discussed: Participants will discuss and update recommendations for infection control and hepatitis B immunization, and education, testing, and surveillance of hepatitis B and C in adult and juvenile incarceration settings. Discussions will include updating guidelines for medical evaluation, management and counseling of incarcerated individuals with chronic hepatitis B or chronic hepatitis C. The agenda will include an overview of issues related to prevention of transmission of these agents and management of infected patients in correctional settings and work group sessions on current and updated recommendations for infection control practices including screening and vaccination.

The participants will consist of representatives from public, private, voluntary and non-governmental organizations.

Agenda items are subject to change as priorities dictate.

Written comments are welcome and should be received by the contact person(s) listed below prior to the opening of the meeting.

Contact Persons for More Information: Katherine Roeder, Cindy Weinbaum, MD, or Rob Lyerla, PhD, Hepatitis Branch, NCID, CDC, M/S G-37, 1600 Clifton Road, NE., Atlanta, Georgia 30333, telephone 404/371-5460.

The Director, Management Analysis and Services Office, has been delegated the authority to sign Federal Register Notices pertaining to announcements of meetings and other committee management activities, for both the Centers for Disease Control and Prevention and the Agency for Toxic Substances and Disease Registry.

Dated: February 8, 2001.
Carolyn J. Russell,
Director, Management Analysis and Services Office, Centers for Disease Control and Prevention.

[FR Doc. 01-3990 Filed 2-15-01; 8:45 am]

BILLING CODE 4163-18-P